DEPARTMENT OF EDUCATION

Applications for New Awards; Parent Information and Training Program—Technical Assistance for Parent Training and Information Centers

AGENCY: Office of Special Education and Rehabilitative Services, Department of Education.

ACTION: Notice.

SUMMARY: The mission of the Office of Special Education and Rehabilitative Services (OSERS) is to improve early childhood, educational, and employment outcomes and raise expectations for all people with disabilities, their families, their communities, and the Nation. As such, the Department of Education (Department) is issuing a notice inviting applications for new awards for fiscal year (FY) 2020 for Parent Information and Training Program-Technical Assistance for Parent Training and Information Centers, Catalog of Federal Domestic Assistance (CFDA) number 84.235G. The national center under this competition is designed to provide technical assistance to, and coordination among, the State-level Parent Training and Information (PTI) centers that are funded under section 303(c) of the Rehabilitation Act, known as the Rehabilitation Services Administration (RSA) PTI centers, and to establish and maintain partnerships with the State-level PTI centers established pursuant to section 671 and 681(d) of the Individuals with Disabilities Education Act (IDEA), known as the Office of Special Education Programs (OSEP)-funded PTIs. This notice relates to the approved information collection under OMB control number 1820-0028.

DATES: Applications Available: April 21, 2020.

Deadline for Transmittal of Applications: June 22, 2020.

Deadline for Intergovernmental Review: August 19, 2020.

Date of Pre-Application Meeting: The Office of Special Education and Rehabilitative Services (OSERS) will post a PowerPoint presentation that provides general information related to RSA's discretionary grant competitions and a PowerPoint presentation specifically related to this Parent Information and Training Program—Technical Assistance for Parent Training and Information Centers at https://ncrtm.ed.gov/RSAGrantInfo.aspx. OSERS will conduct a pre-application meeting specific to this competition via conference call in order to respond to questions on May 5, 2020 at 3:00 p.m. Eastern Time. OSERS invites you to send questions to tara.jordan@ed.gov in advance of the pre-application meeting. The teleconference information, including the 84.235G pre-application meeting summary of the questions and answers, will be available at https://ncrtm.ed.gov/RSAGrantInfo.aspx within 6 days after the pre-application meeting.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Tara Jordan, U.S. Department of Education, 400 Maryland Avenue SW, Room 5058E, Potomac Center Plaza, Washington, DC 20202-2800. Telephone: (202) 245-7341. Email: Tara.Jordan@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: Under the Parent Information and Training Program, section 303(c) of the Rehabilitation Act, RSA funds State-level PTI centers and one national PTI center. The State-level PTI centers provide training and information to individuals with disabilities and their parents, family members, guardians, advocates, or authorized representatives (hereafter referred to as “individuals with disabilities and their families”) who live in the service area, particularly those who are members of populations that have been unserved or underserved by programs under the Rehabilitation Act.

The national PTI center is designed to provide technical assistance to, and coordination among, the State-level PTI centers that are funded under section 303(c) of the Rehabilitation Act, and to establish and maintain partnerships with the State-level PTI centers established pursuant to section 671 and 681(d) of IDEA.

Priority: In accordance with 34 CFR 75.105(b)(2)(v), this priority is from allowable activities specified in the statute (see section 303(c)(6) of the Rehabilitation Act, 29 U.S.C. 773(c)(6)).

Absolute Priority: For FY 2020 and any subsequent year in which we make awards from the list of unfunded applications from this competition, this priority is an absolute priority. Under 34 CFR 75.105(c)(3) we consider only applications that meet this priority.

This priority is:

Parent Information and Training Program-Technical Assistance for Parent Information and Training Centers.

Background:

The Department has funded RSA-PTI centers and a national center under the Rehabilitation Act since 1993. For individuals with disabilities and their families, particularly for youth of transition age, the need for information about transition, vocational rehabilitation (VR), independent living, and other adult services is critical. The current Federal approach to assisting students with disabilities in transitioning to postsecondary education or the workforce necessitates that students and their parents navigate multiple service systems and access multiple programs in order to piece together the supports these students need to achieve maximum independence in adulthood. Under this complex structure, information dissemination and service coordination are essential (GAO, 2012).

Also, although families may be familiar with the supports provided while a youth with disabilities is in secondary school, the options available for postsecondary education and training, including how to obtain financial aid for such options, can often be daunting. Without receiving accurate and timely information about available services, students may miss opportunities to access needed services that could mean the difference between achieving an optimal level of self-sufficiency and relying on public assistance to meet their basic needs (GAO, 2012). Finally, although many youths with disabilities receive work experiences while in secondary school, additional job exploration and on-the-job training experiences provided through a VR services program can introduce them to career possibilities not previously considered.

Having accurate and user-friendly information available helps to ensure that individuals with disabilities receive the services that will help them achieve their employment and independent living goals. Projects must be awarded and operated in a manner consistent with the nondiscrimination requirements contained in the U.S. Constitution and the Federal civil rights laws.

The purpose of this priority is to fund a national PTI center to provide technical assistance to, and coordination of, the State-level PTI centers funded in FY 2020 under section 303(c) of the Rehabilitation Act, and to establish and maintain partnerships with the State-level PTI centers established pursuant to sections 671 and 681(d) of IDEA.

The purpose of the technical assistance and coordination provided by the national PTI center is to assist individuals with disabilities and their families in achieving their employment and independent living goals by: (1) Ensuring that the individual RSA-PTI centers are providing consistent, high-quality information and training to individuals with disabilities and their families; (2) ensuring that the RSA-PTI centers are working together, sharing best practices, not duplicating effort, and collaborating on activities; and (3) establishing and maintaining partnerships with the OSEP-funded PTIs and Regional Parent Technical Assistance Centers. This coordination is designed to increase the consistency of information provided by the centers funded under the Rehabilitation Act and those funded under IDEA. Finally, this center will help to build greater and more effective family engagement in the education and transition of their children and create or expand partnerships with community-based organizations to provide supports and services to individuals with disabilities and their families.

References:

United States Government Accountability Office (GAO). (2012). Report to the Ranking Member, Committee on Education and the Workforce, House of Representatives. Students with Disabilities, Better Federal Coordination Could Lessen Challenges in the Transition from High School. July 2012. Retrieved from: www.gao.gov/assets/600/592329.pdf.

Priority:

Under this priority a grant is awarded for the establishment or continuation of a national Parent Training and Information (PTI) center that provides technical assistance and coordination of the PTI centers funded under section 303(c) of the Rehabilitation Act. Specifically, this national PTI center will coordinate information and training provided by the State-level PTI centers to individuals with disabilities and their parents, family members, guardians, advocates, or authorized representatives (hereafter referred to as “individuals with disabilities and their families”). To be considered for funding under this priority, consistent with section 303(c)(2) of the Rehabilitation Act, an applicant must meet the following application, programmatic, and administrative requirements of this priority:

(a) The national PTI center must coordinate and provide technical assistance to the PTI centers funded by RSA to help these PTI centers, at a minimum, to—

(1) Assist individuals with disabilities and their families to better understand VR and independent living programs and services;

(2) Provide follow-up support for transition and employment programs for individuals with disabilities and their families;

(3) Assist individuals with disabilities and their families to communicate more effectively with transition and rehabilitation personnel and other relevant professionals;

(4) Provide support to individuals with disabilities and their families in the development of the individualized plan for employment;

(5) Provide support and expertise for individuals with disabilities and their families in obtaining information about rehabilitation and independent living programs, services, and resources that are appropriate; and

(6) Assist individuals with disabilities and their families to understand the provisions of the Rehabilitation Act, particularly provisions relating to employment, supported employment, and independent living.

(b) In order to effectively provide coordination and technical assistance to the RSA-funded PTI centers on the activities in paragraph (a), the national PTI center may, among other activities—

(1) Survey all RSA-funded PTI centers to determine collective and individualized technical assistance activities being provided and the gaps in information and training that exist;

(2) Prioritize and provide individualized technical assistance to PTI centers that serve areas in which there are low-performing State VR agencies, poor employment outcomes for individuals with disabilities, and PTIs with capacity issues;

(3) Build the capacity of the network of RSA-funded PTI centers by conducting a set of coordinated activities, including opportunities for peer-to-peer information sharing using various strategies such as listservs, newsletters, and other community of practice strategies;

(4) Develop and Disseminate information and resources on promising and evidence-based practices that lead to high-quality employment outcomes and independent living for individuals with disabilities;

(5) Share with the RSA-funded PTI centers strategies for communicating effectively with individuals from culturally, ethnically, and linguistically diverse backgrounds;

(6) Foster development of expertise in assisting State-level RSA-funded PTI centers as they work with individuals with disabilities, including youth with disabilities of transition age, and their families to access transition services, VR programs, and career development opportunities, including expertise in the provision of technical assistance on how to coordinate a student's Individualized Education Program with the individualized plan for employment so that the services provided to individuals with disabilities under both plans are more likely to lead to high-quality competitive employment in the integrated labor market;

(7) Create tools to help State-level RSA-funded PTI centers to build their capacity to disseminate information and conduct training activities for individuals with disabilities, including youth with disabilities of transition age, and their families on the transition from school to adult life, available VR program services, career development, and related fields;

(8) Support RSA-funded PTI centers in conducting their annual data collection activities on parent training outcomes and consolidating data into an annual report;

(9) Conduct an annual evaluation survey of RSA-funded PTI centers to determine which products and services were deemed to be useful by PTI centers and the individuals with disabilities and families accessing their products and services, with particular emphasis on the effectiveness of those products and services designed to improve VR service utilization; and

(10) Coordinate with the State-level PTI centers and the parent technical assistance centers funded by OSEP in disseminating information and training materials on transition services, VR, supported employment, independent living, and career development.

Program Authority: 29 U.S.C. 773(c)(6).

Applicable Regulations: (a) The Education Department General Administrative Regulations (EDGAR) in 34 CFR parts 75, 77, 79, 81, 82, 84, 86, 97, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

II. Award Information

Type of Award: Discretionary grant.

Estimated Available Funds: $300,000.

The Administration has requested $300,000 for new awards for this program for FY 2020.

Contingent upon the availability of funds and the quality of applications, we may make additional awards in FY 2020 from the list of unfunded applications from this competition.

Maximum Award: We will not make an award exceeding $300,000 for a single budget period of 12 months.

Estimated Number of Awards: 1.

Note: The Department is not bound by any estimates in this notice.

Project Period: Up to 60 months.

III. Eligibility Information

1. Eligible Applicants: Private nonprofit organizations that, to the extent practicable, are the PTI centers established pursuant to section 671 of IDEA. Eligible applicants must also meet the requirements in section 303(c)(4) of the Rehabilitation Act. To receive a grant, an applicant must—

(a) Include in its application information demonstrating the capacity and expertise of the organization—

(i) To coordinate training and information activities with centers for independent living;

(ii) To coordinate and work closely with PTI centers established pursuant to section 671 of IDEA, the community parent resource centers established pursuant to section 672 of IDEA, and the eligible entities receiving awards under section 673 of IDEA; and

(iii) To effectively conduct the training and information activities authorized in section 303 of the Rehabilitation Act;

(b)(i) Be governed by a board of directors—

(A) That includes professionals in the VR field; and

(B) On which a majority of the members are individuals with disabilities or the parents, family members, guardians, advocates, or authorized representatives of the individuals; or

(ii)(A) Have a membership that represents the interests of individuals with disabilities; and

(B) Establish a special governing committee that includes professionals in the VR field and on which a majority of the members are individuals with disabilities or the parents, family members, guardians, advocates, or authorized representatives of the individuals to operate a training and information program under section 303(c)(4) of the Rehabilitation Act; and

(c) Serve, and demonstrate the capacity for serving, individuals with a full range of disabilities, and the parents, family members, guardians, advocates, or authorized representatives of the individuals.

2. Cost Sharing or Matching: This program does not require cost sharing or matching.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

V. Application Review Information

1. Selection Criteria: The selection criteria for this competition are from 34 CFR 75.210 and are as follows:

(a) Significance (15 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses; and

(ii) The importance or magnitude of the results or outcomes likely to be attained by the proposed project.

(b) Quality of project design (10 points).

(1) The Secretary considers the quality of the design of the proposed project.

(2) In determining the quality of the design of the proposed project, the Secretary considers the following factors:

(i) The extent to which the goals, objectives, and outcomes to be achieved by the proposed project are clearly specified and measurable.

(ii) The extent to which there is a conceptual framework underlying the proposed research or demonstration activities and the quality of that framework.

(c) Quality of project services (25 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project reflect up-to-date knowledge from research and effective practice.

(ii) The extent to which the services to be provided by the proposed project are appropriate to the needs of the intended recipients or beneficiaries of those services.

(iii) The extent to which the services to be provided by the proposed project involve the collaboration of appropriate partners for maximizing the effectiveness of project services.

(iv) The extent to which the technical assistance services to be provided by the proposed project involve the use of efficient strategies, including the use of technology, as appropriate, and the leveraging of non-project resources.

(d) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation are appropriate to the context within which the project operates.

(iii) The extent to which the methods of evaluation will provide performance feedback and permit periodic assessment of progress toward achieving intended outcomes.

(iv) The extent to which the methods of evaluation include the use of objective performance measures that are clearly related to the intended outcomes of the project and will produce quantitative and qualitative data to the extent possible.

(f) Adequacy of resources and quality of project personnel (20 points).

(1) The Secretary considers the adequacy of resources and quality of project personnel for the proposed project.

(2) In determining the adequacy of resources and quality of project personnel for the proposed project, the Secretary considers the following factors:

(i) The adequacy of support, including facilities, equipment, supplies, and other resources, from the applicant organization or the lead applicant organization.

(ii) The extent to which the costs are reasonable in relation to the objectives, design, and potential significance of the proposed project.

(iii) The extent to which the applicant encourages applications for employment from persons who are members of groups that have traditionally been underrepresented based on race, color, national origin, gender, age, or disability.

(iv) The qualifications, including relevant training and experience, of key project personnel.

(v) The qualifications, including relevant training and experience, of project consultants or subcontractors.

(vi) The relevance and demonstrated commitment of each partner in the proposed project to the implementation and success of the project.

(f) Quality of the management plan (15 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that, for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: The Government Performance and Results Act of 1993 (GPRA) directs Federal departments and agencies to improve the effectiveness of programs by engaging in strategic planning, setting outcome-related goals for programs, and measuring program results against those goals. The required annual report must include information on the following measure: The percentage of all products and services deemed to be useful by PTI centers to improve VR service utilization. The data on this measure will be collected by the grantee via survey, assessed, and reported in the aggregate to RSA. The grantee will negotiate targets with RSA after the first year, which will be used to establish a baseline.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Mark Schultz,
Commissioner, Rehabilitation Services Administration. Delegated the authority to perform the functions and duties of the Assistant Secretary for the Office of Special Education and Rehabilitative Services.

[FR Doc. 2020-08391 Filed 4-20-20; 8:45 am]

BILLING CODE 4000-01-P